DEPARTMENT OF HEALTH AND HUMAN SERVICES

Administration for Children and Families

Submission for OMB Review; Variations in Implementation of Quality Interventions (VIQI) Project (0970-0508)

AGENCY: Office of Planning, Research, and Evaluation, Administration for Children and Families, HHS.

ACTION: Request for public comment.

SUMMARY: The Office of Planning, Research, and Evaluation (OPRE), Administration for Children and Families (ACF), U.S. Department of Health and Human Services (HHS), is requesting a 3-year extension with changes to continue collecting data for the study Variations in Implementation of Quality Interventions (VIQI). In addition to extending data collection, OPRE proposes to update burden estimates to accommodate a different sample size of centers, administrators, teachers, and coaches; to revise data collection instruments and activities for the impact evaluation and process study in line with lessons learned during the pilot study; to add a second timepoint of data collection for the teacher reports to questions about children; to provide one new instrument to collect parent report of children's skills and behaviors; and to provide one new instrument in anticipation of COVID-19 necessitating further information gathering to contextualize findings from the impact evaluation and process study.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: Through the VIQI Project, OPRE aims to inform policymakers, practitioners, and stakeholders about effective ways to support the quality and effectiveness of early care and education (ECE) centers for promoting young children's learning and development. The VIQI Project completed a pilot study in about 40 centers in three metropolitan areas in 2018-2019 that is informing a year-long impact evaluation and process study that involves testing the effectiveness of two curricular and professional development models aiming to strengthen the quality of classroom processes and children's outcomes. The impact evaluation and process study is expected to begin in the fall of 2021 and will include about 140 community-based and Head Start ECE centers spread across about 12 different metropolitan areas in the United States.

The VIQI Project will consist of a 3-group experimental design where the initial quality and other characteristics of ECE centers are measured. For details about the study design, see the Supporting Statements at https://www.reginfo.gov/public/do/PRAViewDocument?ref_nbr=202008-0970-009.

In anticipation of changes to center characteristics due to COVID-19, annual burden estimates and instruments have been updated to accommodate a different sample size of centers, administrators, teachers, and coaches for the impact evaluation and process study.

The previously approved data collection instruments for the impact evaluation and process study include the following:

(1) Instruments for Screening and Recruitment of ECE Centers. We do not propose any changes to these materials;

(2) Baseline Instruments. Modifications made to surveys remove items that showed little variation in the pilot study, edit item wording to increase clarity and ease of understanding, and add a few new items to capture new constructs of interest based upon the insights gained from the pilot study. The child assessment and classroom observation instruments have been updated to reflect the selected assessments and observations. We added an additional time point of data collection (baseline) for teacher reports on questions about children in the classroom and have added in questions about children's academic skills. Parent/guardian reports to questions about children in the classroom have been added to gather information about children's skills at the beginning of the impact evaluation and process study. Administrator/teacher COVID-19 supplemental survey questions have been added to gather information about how the pandemic has changed typical center and classroom programming and functioning, if there is a need to contextualize findings from the impact evaluation and process study due to circumstances surrounding the COVID-19 pandemic at the time of data collection;

(3) Follow-Up Instruments. Modifications made to surveys remove items that showed little variation in the pilot study, edit item wording to increase clarity and ease of understanding, and add a few new items to capture new constructs of interest based upon insights gained from the pilot study. The child assessment and classroom observation instruments have been updated to reflect the selected assessments and observations. We added in questions about children's academic skills to the teacher reports on questions about children in the classroom. Parent/guardian reports to questions about children have been added to gather information about children's skills at the end of the impact evaluation and process study; and

(4) Fidelity of Implementation Instruments. Modifications to the Coach Log have been made to remove or consolidate items that showed little variation or proved less useful in the pilot study and to edit item wording to increase clarity and ease of understanding.

Respondents: Staff members working in Head Start grantee and community-based child care oversight agencies, staff members working in about 140 ECE centers in about 12 metropolitan areas across the United States, and parents and children being served in these centers.

Annual Burden Estimates
Instrument | Number of respondents (total over request period) | Number of responses per respondent (total over request period) | Average burden per response (in hours) | Total burden (in hours) | Annual burden (in hours)
Instruments for Screening and Recruitment of ECE Centers for the Impact Evaluation and Process Study
Landscaping protocol with Stakeholder Agencies (staff burden in Head Start (HS) grantee and community-based child care agencies) | 120 | 1 | 1.50 | 180 | 60
Screening protocol for phone calls (staff burden in HS grantees and community-based child care agencies) | 132 | 1 | 2.0 | 264 | 88
Screening protocol for phone calls (HS and community-based child care center staff burden) | 336 | 1 | 1.2 | 403 | 134
Protocol for follow-up calls/in-person visits for screening and recruitment activities (staff burden in HS grantees and community-based child care agencies) | 610 | 1 | 1.5 | 915 | 305
Protocol for follow-up calls/in-person visits for screening and recruitment activities (HS and community-based child care center staff burden) | 950 | 1 | 1.2 | 1140 | 380
Baseline Instruments for the Impact Evaluation and Process Study
Baseline administrator survey | 175 | 1 | 0.6 | 105 | 35
Baseline coach survey | 59 | 1 | 0.6 | 35 | 12
Baseline teacher/assistant teacher survey | 1050 | 1 | 0.6 | 630 | 210
Baseline parent/guardian information form in Impact Evaluation only | 6300 | 1 | 0.1 | 630 | 210
Baseline classroom observation protocol (teacher burden) | 420 | 1 | 0.3 | 126 | 42
Baseline protocol for child assessments in Impact Evaluation only (child burden) | 4200 | 1 | 0.5 | 2100 | 700
Parent/guardian reports to questions about children (administered as part of the baseline parent/guardian information form) | 6300 | 1 | 0.1 | 630 | 210
Teacher reports to questions about children in classroom (administered as part of the baseline teacher survey) | 420 | 10 | 0.17 | 714 | 238
Administrator/teacher COVID-19 supplemental survey questions (administered as part of or in addition to administrator and/or teacher survey, to contextualize findings from impact evaluation and process study due to circumstances surrounding COVID-19 at the time of data collection) | 980 | 1 | 0.25 | 245 | 82
Follow-Up Instruments for Impact Evaluation and Process Study
Follow-up administrator survey | 140 | 1 | 0.5 | 70 | 23
Follow-up coach survey | 47 | 1 | 0.5 | 24 | 8
Follow-up teacher/assistant teacher survey | 840 | 1 | 0.75 | 630 | 210
Parent/guardian reports to questions about children | 6300 | 1 | 0.1 | 630 | 210
Teacher reports to questions about children in classroom (administered as part of the follow-up teacher survey) | 420 | 10 | 0.17 | 714 | 238
Follow-up classroom observation protocol (teacher burden) | 420 | 3 | 0.3 | 378 | 126
Follow-up protocol for child assessments in Impact Evaluation only (child burden) | 4200 | 1 | 0.9 | 3780 | 1260
Fidelity of Implementation Instruments for the Process Study
Coach log | 47 | 108 | 0.25 | 1269 | 423
Teacher/assistant teacher log | 840 | 36 | 0.25 | 7560 | 2520
Implementation fidelity observation protocol (teacher burden) | 80 | 1 | 0.3 | 24 | 8
Interview/Focus group protocol (administrator, teacher/assistant teacher and coach burden) | 236 | 1 | 1.5 | 354 | 118

Estimated Total Annual Burden Hours: 7,850.

Authority: 42 U.S.C. 9858(a)(5); 42 U.S.C. 9835; and 42 U.S.C. 9844.

Mary B. Jones,
ACF/OPRE Certifying Officer.

[FR Doc. 2021-08916 Filed 4-28-21; 8:45 am]

BILLING CODE 4184-23-P